DEPARTMENT OF JUSTICE

Notice of Lodging of Settlement Agreement Pursuant to the Comprehensive Environmental Response, Compensation, and Liability Act of 1980, as Amended

Consistent with Departmental policy, 28 CFR 50.7, 38 FR 19029, and 42 U.S.C. 9622(d), notice is hereby given that on June 27, 2000, a proposed Settlement Agreement In re CML, Inc., Case No. 98-49286-HJB (Bkr. D. Mass.), was lodged with the United States Bankpuptcy Court for the District of Massachusetts (Western Division). The proposed Settlement Agreement will resolve the United States' claims under the Comprehensive Environmental Response, Compensation, and Liability Act (“CERCLA”), 42 U.S.C. 9601, et seq., on behalf of the U.S. Environmental Protection Agency (“EPA”) against CML Group, Inc. (the “Debtor”) and its subsidiary OCR, Inc. (together, the “Settling Parties”) relating to the Kearsarge Metallurgical Corporation (“KMC”) Superfund Site (the “Site”) located in Conway, New Hampshire. The Complaint alleges that each defendant is liable under section 107(a) of CERCLA, 42 U.S.C. 9607(a).

Pursuant to the Settlement Agreement, the Debtor's insurer agrees to reimburse to the Untied States $575,000 out of $1,700,000 in past response costs. In exchange, the United States covenants not to bring a civil action or take administrative action against the Settling Parties, or their predecessors, successors and assigns, pursuant to Sections 106 and 107 of CERCLA relating to the Site, or to file any Proof of Claim in the Debtor's bankruptcy proceedings, or to seek to obtain any payment from the Debtor's Estate, on account of any matter relating to the EPA claim for the Site. This covenant not to sue is conditioned upon the complete and satisfactory performance by the Settling Parties and their insurer of their obligations under this Settlement Agreement.

The Department of Justice will receive for a period of thirty (30) days from the date of this publication comments relating to the proposed Settlement Agreement. Any comments should be addressed to the Assistant Attorney General of the Environment and Natural Resources Division, PO Box 7611, Department of Justice, Washington, DC 20044-7611, and should refer to, In re CML, Inc., Civil Action No. 98-49286 HJB (Bkr. D. Mass.), D.J. Ref. 90-11-3-761/2.

The proposed Settlement Agreement may be examined at the Office of the United States Attorney, District of Massachusetts, 1 Courthouse Way, Boston, MA 02210 and at Region I, Office of the Environmental Protection Agency, Superfund Records Center, One Congress Street, Boston, MA 02114. A copy of the proposed Settlement Agreement may also be obtained by mail from the Consent Decree Library, PO Box 7611, Washington, DC 20044-7611. In requesting a copy, please enclose a check (there is a 25 cent per page reproduction cost) in the amount of $2.00 payable to the Consent Decree Library.

Joel Gross,
Chief, Environmental Enforcement Section, Environment and Natural Resources Division.

[FR Doc. 00-18159 Filed 7-18-00; 8:45 am]

BILLING CODE 4410-15-M